DEPARTMENT OF HEALTH AND HUMAN SERVICES

Administration for Community Living

Announcing the Intent To Award a Single-Source Supplement for the National Volunteer Care Corps Program

ACTION: Notice.

SUMMARY: The Administration for Community Living (ACL) announces the intent to award a single-source supplement to the current cooperative agreement held by the Oasis Institute for the project National Volunteer Care Corps.

FOR FURTHER INFORMATION CONTACT: For further information or comments regarding this program supplement, contact Sherri Clark Link, U.S. Department of Health and Human Services, Administration for Community Living, Administration on Aging, Office of Supportive and Caregiver Services: telephone (202)-795-7327; email sherri.clark@acl.hhs.gov.

SUPPLEMENTARY INFORMATION: The purpose of this program was to establish a new grant program that will test models of programming designed to place volunteers in communities to assist caregivers, older adults, and persons with disabilities in maintaining independence by providing non-medical care. The overall goals of the program are to:

• Add to the nation's capacity to support volunteer programs that provide non-medical care to assist caregivers, older adults, and/or persons with disabilities; and

• Advancing innovative models that support local volunteer programs that provide non-medical care to assist caregivers, older adults, and/or persons with disabilities.

Since inception of the National Volunteer Care Corps project, the Oasis Institute has supported 75 local projects around the country providing services to over 22,000 people. Several innovative models have emerged since the establishment of the program. ACL is interested in concentrating attention on a special volunteer model that is focused around building a network of screened and trained volunteer chaperones to accompany older adults and adults with disabilities in need to and from non‐emergency medical appointments and outpatient procedures. The administrative supplement for FY 2023 will be in the amount of $1,337,500 and will provide sufficient resources to enable the grantee to establish a grant category that will fund efforts that target the volunteer chaperone volunteer model.

Dated: July 8, 2023.
Alison Barkoff,
Acting Administrator and Assistant Secretary for Aging.

[FR Doc. 2023-14830 Filed 7-12-23; 8:45 am]

BILLING CODE 4154-01-P